DEPARTMENT OF TRANSPORTATION

Federal Highway Administration

Environmental Impact Statement: Washington County, NE

AGENCY: Federal Highway Administration (FHWA), DOT.

ACTION: Notice of intent.

SUMMARY: The FHWA is issuing this notice to advise the public that an Environmental Impact Statement will be prepared for a proposed roadway improvement project in Washington County, Nebraska.

FOR FURTHER INFORMATION CONTACT: Mr. Edward Kosola, Realty/Environmental Officer, FHWA, Federal Building, Room 220, 100 Centennial Mall North, Lincoln, NE 68508-3851, (402) 437-5973. Alan Doll, Highway Superintendent, Washington County, P.O. Box 130, Blair, NE 68008 (402-426-6844). Allen Shoemaker, Director of Public Works, City of Blair, 218 South 16th Street, Blair, NE 68008 (402-426-4191).

SUPPLEMENTARY INFORMATION: The FHWA, in cooperation with the City of Blair, Nebraska and Washington County, Nebraska will prepare an Environmental Impact Statement (EIS) to study a bypass route around the City of Blair.

The City of Blair currently experiences traffic congestion, delay and accident problems where State Highway 91 and U.S. Highways 30 and 75 share the alignment. These highways share alignment within the city limits of Blair on the Washington Street corridor from 19th Street to 13th Street. Traffic studies indicate that a bypass route around the south, east and north parts of Blair is needed to reduce the amount of truck traffic through Blair. The bypass is currently planned as a two-lane roadway that could be expanded to four lanes.

Alternatives under consideration include: (1) Taking no action; (2) constructing a bypass that connects U.S. Highway 30 south to U.S. Highway 30 east; (3) constructing a bypass that connects U.S. Highway 30 east to U.S. Highway 75 north; and (4) constructing a bypass that connects the south, east and north areas around the city by connecting U.S. 30 south to U.S. 75 south to U.S. 30 east to U.S. 75 north.

An agency scoping meeting and a public scoping/information meeting are planned. Letters describing the proposed action and soliciting comments will be sent to appropriate Federal, State and local agencies, and to private organizations and citizens who are known to be interested in this proposed project. Public input will be sought throughout the project via public meetings to be held in 2004. A Draft EIS will be prepared and a public hearing will be held. Public notice will be given of the time and place of the public meetings and public hearing.

To ensure that the full range of issues related to this proposed action are addressed and all significant issues are identified, comments and suggestions are invited from all interested parties. Comments or questions concerning this proposed action and the EIS should be directed to the FHWA at the address provided in the caption FOR FURTHER INFORMATION CONTACT.

(Catalog of Federal Domestic Assistance Program Number 20.205, Highway Planning and Construction. The regulations implementing Executive Order 12372 regarding intergovernmental consultation of Federal programs and activities apply to this program.)

(Authority: 23 U.S.C. 315; 49 CFR 1.48.)

Dated: May 26, 2004.
Edward W. Kosola,
Realty/Environmental Officer, Nebraska Division, Federal Highway Administration, Lincoln, Nebraska.

[FR Doc. 04-12447 Filed 6-1-04; 8:45 am]

BILLING CODE 4910-22-M